SOCIAL SECURITY ADMINISTRATION

[Docket No. SSA-2025-0013]

Maximum Dollar Limit in the Fee Agreement Process; Partial Rescission

AGENCY: Social Security Administration (SSA).

ACTION: Notice.

SUMMARY: SSA is retaining in part and rescinding in part the Federal Register Notice (FRN) that we published on May 10, 2024. With the publication of this Notice the $9,200 fee cap will remain in effect, and we will only publish a notice in the Federal Register when increasing the fee cap, as the Social Security Act (Act) requires.

DATES: This Notice will be applicable on May 6, 2025.

FOR FURTHER INFORMATION CONTACT: Jennifer Pecora, Office of Vocational, Evaluation, and Process Policy in the Office of Disability Policy, Social Security Administration, 6401 Security Boulevard, Baltimore, MD 21235-6401. Phone (410) 597-1724, email: Jennifer.Pecora@ssa.gov.

For information on eligibility or filing for benefits, call the SSA national toll-free number, 1-800-772-1213 or TTY 1-800-325-0778, or visit SSA's internet site, Social Security Online at http://www.socialsecurity.gov.

SUPPLEMENTARY INFORMATION: Pursuant to section 206(a)(2) ¹ of the Act, the Commissioner of SSA establishes the maximum fee that a representative may charge and collect from claimants for successful representation in cases before SSA under the fee agreement process. The Act limits the maximum fee to the lesser of 25 percent of the past-due benefits or a fixed dollar amount (fee cap). The Act allows the Commissioner to periodically increase the fee cap, and it requires the Commissioner to publish a notice announcing any increase in the fee cap in the Federal Register.²

¹ 42 U.S.C. 406(a)(2)(A).

² Id.

On May 10, 2024, SSA published an FRN (89 FR 40523) announcing an increase in the representative fee cap to $9,200, effective November 30, 2024. Additionally, the May 10, 2024, FRN announced that starting January 2026, SSA would annually publish an FRN addressing the maximum dollar amount for fee agreements and providing a rationale for either increasing or maintaining the maximum dollar amount based upon the COLA for the prior year.

Pursuant to this Notice, we will maintain the increased fee cap of $9,200, which was effective November 30, 2024. However, SSA has determined that, consistent with the Act, we will not publish an FRN each year providing a rationale for either increasing or not increasing the fee cap, but will only publish a notice in the Federal Register when increasing the fee cap. We have determined that publishing an FRN each year regardless of whether we increase the fee cap would impose unnecessary administrative burdens and resource expenditures that the Act does not mandate. This decision aligns SSA's policies with Administration priorities to most efficiently allocate agency resources.

Leeland Dudek,
Acting Commissioner, Social Security Administration.

[FR Doc. 2025-07813 Filed 5-5-25; 8:45 am]

BILLING CODE 4191-02-P